DEPARTMENT OF ENERGY

Federal Energy Regulatory Commission

Combined Notice of Filings

Take notice that the Commission has received the following Natural Gas Pipeline Rate and Refund Report filings:

Filings Instituting Proceedings

Docket Numbers: RP14-409-000.

Applicants: Iroquois Gas Transmission System, L.P.

Description: 01/30/14 Negotiated Rates' Sequent Energy Management (HUB) 3075-89 to be effective 1/29/2014.

Filed Date: 1/30/14.

Accession Number: 20140130-5085.

Comments Due: 5 p.m. ET 2/11/14.

Docket Numbers: RP14-410-000.

Applicants: Alliance Pipeline L.P.

Description: Alliance Pipeline L.P. submits tariff filing per 154.204: Invoicing Correction to be effective 4/1/2014.

Filed Date: 1/30/14.

Accession Number: 20140130-5195.

Comments Due: 5 p.m. ET 2/11/14.

Docket Numbers: RP14-411-000.

Applicants: Southern LNG Company, L.L.C.

Description: Southern LNG Company, L.L.C. submits tariff filing per 154.204: Dredging Surcharge Cost Adjustment—2014 to be effective 3/1/2014.

Filed Date: 1/30/14.

Accession Number: 20140130-5304.

Comments Due: 5 p.m. ET 2/11/14.

Docket Numbers: RP14-412-000.

Applicants: Midwestern Gas Transmission Company.

Description: Midwestern Gas Transmission Company submits tariff filing per 154.204: Negotiated Rate PAL Agreements—Exelon Generation Company, et al. to be effective 1/28/2014.

Filed Date: 1/30/14.

Accession Number: 20140130-5340.

Comments Due: 5 p.m. ET 2/11/14.

Docket Numbers: RP14-413-000.

Applicants: Iroquois Gas Transmission System, L.P.

Description: Iroquois Gas Transmission System, L.P. submits tariff filing per 154.204: 01/30/14 Negotiated Rates—JP Morgan Ventures Energy Corp (HUB) 6025-89 to be effective 1/29/2014.

Filed Date: 1/30/14.

Accession Number: 20140130-5343.

Comments Due: 5 p.m. ET 2/11/14.

Docket Numbers: RP14-414-000.

Applicants: Guardian Pipeline, L.L.C.

Description: Guardian Pipeline, L.L.C. submits tariff filing per 154.204: Negotiated Rate PAL Agreements—Tenaska, et al. to be effective 1/25/2014.

Filed Date: 1/30/14.

Accession Number: 20140130-5344.

Comments Due: 5 p.m. ET 2/11/14.

Docket Numbers: RP14-415-000.

Applicants: Portland Natural Gas Transmission System.

Description: Portland Natural Gas Transmission System submits tariff filing per 154.204: Correcting Credit Language to be effective 6/1/2013.

Filed Date: 1/31/14.

Accession Number: 20140131-5031.

Comments Due: 5 p.m. ET 2/12/14.

Docket Numbers: RP14-416-000.

Applicants: Midcontinent Express Pipeline LLC.

Description: Midcontinent Express Pipeline LLC's Penalty Revenue Crediting Report for 2013.

Filed Date: 1/30/14.

Accession Number: 20140130-5374.

Comments Due: 5 p.m. ET 2/11/14.

Docket Numbers: RP14-417-000.

Applicants: Algonquin Gas Transmission, LLC.

Description: Algonquin Gas Transmission, LLC submits tariff filing per 154.203: AGT FRQ Settlement Filing to be effective 2/1/2014.

Filed Date: 1/31/14.

Accession Number: 20140131-5041.

Comments Due: 5 p.m. ET 2/12/14.

Docket Numbers: RP14-418-000.

Applicants: Great Lakes Gas Transmission Limited Par.

Description: Great Lakes Gas Transmission Limited Partnership Semi-Annual Transporter's Use Report under New Docket.

Filed Date: 1/31/14.

Accession Number: 20140131-5044.

Comments Due: 5 p.m. ET 2/12/14.

Docket Numbers: RP14-419-000.

Applicants: Transcontinental Gas Pipe Line Company.

Description: Transcontinental Gas Pipe Line Company, LLC submits tariff filing per 154.403: S-2 Tracker Filing Effective 2014-02-01 to be effective 2/1/2014.

Filed Date: 1/31/14.

Accession Number: 20140131-5056.

Comments Due: 5 p.m. ET 2/12/14.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2014.
Nathaniel J. Davis, Sr.,
Deputy Secretary.

[FR Doc. 2014-02657 Filed 2-6-14; 8:45 am]

BILLING CODE 6717-01-P